DEPARTMENT OF DEFENSE

Department of the Army; Corps of Engineers

Notice of Solicitation for Estuary Habitat Restoration Program; Extension of Submittal Date

AGENCY: Department of the Army; U.S. Army Corps of Engineers, DoD.

ACTION: Notice; extension of submission deadline.

SUMMARY: In response to a request from potential applications the submission deadline for project applications had been extended from July 25, 2005 as stated in the original notice published on June 8, 2005 in Federal Register (70 FR 33453).

DATES: Proposed must be received on or before August 8, 2005.

ADDRESSES: Proposed forms may be accessed at http://www.usace.army.mil/civilworks/cecwo/estuart_act/ or by contacting the individuals listed in the following section. Project proposed may be submitted electronically, by mail, or by courier. Electronic submission are preferred and will facilitate processing. Please see the original Notice of Solicitation published on June 8, 2005 (70 FR 33453).

FOR FURTHER INFORMATION CONTACT: Ms. Ellen Cummings, Headquarters, U.S. Army Corps of Engineers, Washington, DC 20314-1000, (202) 761-4750, e-mail: Ellen.M.Cummings@usace.army.mil; or Ms. Cynthia Garman-Squier, Office of the Assistant Secretary of the Army (Civil Works), Washington, DC (703) 695-6791, e-mail: Cynthia.Garman-Squier@hqda.army.mil.

SUPPLEMENTARY INFORMATION: None.

Brenda S. Bowen,
Army Federal Register Liaison Officer.

[FR Doc. 05-14584 Filed 7-22-05; 8:45 am]

BILLING CODE 3710-92-M